DEPARTMENT OF JUSTICE

Antitrust Division

Notice Pursuant to the National Cooperative Research and Production Act of 1993—Video Electronics Standards Association

Notice is hereby given that, on September 20, 2004, pursuant to section 6(a) of the National Cooperative Research and Production Act of 1993, 15 U.S.C. 4301 et seq. (“the Act”), Video Electronics Standards Association (“VESA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Video Electronics Standards Association, Milpitas, CA. The nature and scope of VESA's standards development activities are: To facilitate and promote personal computer graphics through improved graphics standards for the benefit of the end user; to support and set industry-wide interface standards for the personal computer, workstation and computing environments; and to promote and develop timely, relevant, open standards for the display and display interface industry, ensuring interoperability and encouraging innovation and market growth.

Dorothy B. Fountain,
Deputy Director of Operations, Antitrust Division.

[FR Doc. 04-25843 Filed 11-19-04; 8:45 am]

BILLING CODE 4410-11-M